DEPARTMENT OF ENERGY

Federal Energy Regulatory Commission

[Project No. 10102-000]

Springer Hydro No. 1; Notice of Existing Licensee's Failure To File a Notice of Intent To File a Subsequent License Application, and Soliciting Notices of Intent To File a License Application and Pre-Application Documents

The current license for Springer Hydro No. 1 Project No. 10102 was issued on June 29, 1990, for a term of 40 years, ending August 31, 2023.¹ The 45-kilowatt project is located on McFadden and Morrison Creeks in Chafee County, Colorado.

¹ See Franklin Springer, 51 FERC ¶ 61,375 (1990). The effective date of the license was backdated to September 1, 1983, the month when Springer Hydro began project operation.

The project consists of: (1) A 14-foot-long, 44-inch-high concrete diversion weir and a 4-foot by 8-foot intake filter at elevation 8,676 feet mean sea level on Morrison Creek; (2) an 866-foot-long, 10-inch-diameter penstock; (3) the 15.4-acre-foot-capacity Waupaca reservoir no. 2 on McFadden Creek formed by three earthen dams including (a) a 408-foot-long, 28-foot-high main dam, (b) a 90-foot-long, 10-foot-high north saddle dam, and (c) a 148-foot-long, 18-foot high south saddle dam with a 48-foot-wide gravel spillway and a 10-inch-diameter, perforated pipe intake; (4) a 10-inch-diameter, 387-foot-long penstock from the reservoir, joining the downstream end of the penstock in item (2) above; (5) a 10-inch-diameter, 1,553-foot-long penstock; (6) a 20-foot-long, 10-foot-wide, 8-foot-high powerhouse containing a 45-kilowatt generating unit; (7) a 24-inch-diameter, 24-foot-long tailrace pipe discharging into Morrison Creek; (8) a 450-foot-long, 7.2-kilovolt transmission line connecting to a Sangre de Cristo Rural Electrical Association distribution line.

At least five years before the expiration of a license for a minor water power project in which sections 14 and 15 of the Federal Power Act were waived, the Commission's regulations require the licensee to file with the Commission a notice of intent (NOI) that contains an unequivocal statement of the licensee's intention to file or not to file an application for a subsequent license, details on the principal project works and installed plant capacity, and other information.²

² 18 CFR 16.19(b) (2018) (citing 18 CFR 16.6(b) (2018)).

If such a licensee does not inform the Commission that it intends to file an application for, in this case, a subsequent license for the project, the licensee may not file an application for a subsequent license, either individually or in conjunction with an entity or entities that are not currently licensees of the project.³

³ 18 CFR 16.24(b) (2018).

Because the existing license expires on August 31, 2023, the NOI was due to be filed no later than the close of business on August 31, 2018. Watershed Ranch LLC, the existing licensee for the Springer Hydro No. 1 Project, failed to file an NOI for the project by this date.⁴

⁴ 18 CFR 16.23(b) (2018).

Any party interested in filing a license application for the Springer Hydro No. 1 Project must first file an NOI ⁵ and a pre-application document (PAD) ⁶ pursuant to Part 5 of the Commission's regulations. Although the integrated licensing process (ILP) is the default pre-filing process, section 5.3(b) of the Commission's regulations allows a potential license applicant to request to use alternative licensing procedures when it files its NOI.⁷

⁵ 18 CFR 5.5 (2018).

⁶ 18 CFR 5.6 (2018).

⁷ 18 CFR 5.3(b) (2018).

This notice sets a deadline of 120 days from the date of this notice for interested applicants, other than the existing licensee, to file NOIs, PADs, and requests to use the traditional licensing process or alternative procedures.

Applications for a subsequent license from potential applicants must be filed with the Commission at least 24 months prior to the expiration of the existing license.⁸ Because the existing license expires on August 31, 2023, applications for license for this project must be filed by August 31, 2021.⁹

⁸ 18 CFR 16.20 (2018).

⁹ To the extent an interested applicant files an NOI and PAD and elects or is required to use the Commission's ILP, a process plan will be issued within 180 days of this notice, which accelerates the steps of the ILP to allow for filing a subsequent license application by the August 31, 2021 deadline.

Questions concerning this notice should be directed to Khatoon Melick at (202) 502-8433 or khatoon.melick@ferc.gov.

Dated: March 13, 2019.
Kimberly D. Bose,
Secretary.

[FR Doc. 2019-05110 Filed 3-18-19; 8:45 am]

BILLING CODE 6717-01-P